NUCLEAR REGULATORY COMMISSION

[Docket No. 030-19913]

Notice of Consideration of Amendment Request for Enviro-Test Laboratories, Casper, Wyoming and Opportunity for Providing Comments and Requesting a Hearing

I. Introduction

The U.S. Nuclear Regulatory Commission (NRC) is considering issuance of a license amendment to Materials License 49-21194-01, issued to Enviro-Test Laboratories (the licensee), to authorize decommissioning of its facility in Casper, Wyoming.

The licensee is currently authorized to possess a variety of radioactive isotopes for environmental and bioassay sampling; for use as laboratory standards and calibration sources; and for evaluation of leak tests as a customer service. On October 1, 2002, the licensee submitted a decommissioning plan (DP) to the NRC for review and approval. By letter dated January 28, 2003, the NRC requested additional information to supplement the DP. Supplemental information was provided to the NRC by letter dated June 2, 2003. An NRC administrative review, documented in a letter to Enviro-Test Laboratories dated June 11, 2003, found the DP acceptable to begin a technical review. In addition, the licensee submitted an NRC Form 314, “Certificate of Disposition of Materials,” dated January 31, 2003, requesting termination of its materials license.

If the NRC approves the DP, the approval will be documented in an amendment to NRC License No. 49-21194-01. However, before approving the proposed amendment, the NRC will need to make the findings required by the Atomic Energy Act of 1954, as amended, and NRC's regulations. These findings will be documented in a Safety Evaluation Report and an Environmental Assessment.

II. Opportunity to Provide Comments

In accordance with 10 CFR 20.1405, the NRC is providing notice to individuals in the vicinity of the site that the NRC is in receipt of a DP and will accept comments concerning this decommissioning proposal and its associated environmental impacts. Comments with respect to this action should be provided in writing within 30 days of this notice and addressed to D. Blair Spitzberg, Ph.D., Chief, Fuel Cycle and Decommissioning Branch, Division of Nuclear Materials Safety, Region IV, U.S. Nuclear Regulatory Commission, 611 Ryan Plaza Drive, Suite 400, Arlington, Texas 76011-4005. Telephone: (817) 860-8191, fax (817) 860-8188, e-mail: dbs@nrc.gov. Comments received after 30 days will be considered if practicable to do so, but only those comments received on or before the due date can be assured consideration.

III. Opportunity to Request a Hearing

NRC also provides notice that this is a proceeding on an application for an amendment of a license falling within the scope of subpart L, “Informal Hearing Procedures for Adjudications in Materials and Operator Licensing Proceedings,” of NRC's rules and practice for domestic licensing proceedings in 10 CFR part 2. Whether or not a person has or intends to provide comments as set out in section II above, pursuant to § 2.1205(a), any person whose interest may be affected by this proceeding may file a request for a hearing in accordance with § 2.1205(d). A request for a hearing must be filed within thirty (30) days of the date of publication of this Federal Register notice. The request for a hearing must be filed with the Office of the Secretary either:

1. By delivery to Secretary, U.S. Nuclear Regulatory Commission, One White Flint North, 11555 Rockville Pike, Rockville, MD 20852-2738; between 7:45 a.m. and 4:15 p.m., Federal workdays; or

2. By mail, telegram, or facsimile (301-415-1101) addressed to the Secretary, U.S. Nuclear Regulatory Commission, Washington, DC 20555-0001. Attention: Rulemakings and Adjudications Staff.

In accordance with 10 CFR § 2.1205(f), each request for a hearing must also be served, by delivering it personally or by mail, to:

1. The applicant; Mr. Erv Callin, Director, Environmental Services, Enviro-Test Laboratories, 9936 67th Ave., Edmonton, AB T6EOP5, and;

2. The NRC staff; by delivery to the General Counsel, U.S. Nuclear Regulatory Commission, One White Flint North, 11555 Rockville Pike, Rockville, MD 20852-2738, between 7:45 a.m. and 4:15 p.m., Federal workdays, or by mail, addressed to General Counsel, U.S. Nuclear Regulatory Commission, Washington, DC 20555-0001.

In addition to meeting other applicable requirements of 10 CFR part 2 of the NRC's regulations, a request for a hearing filed by a person other than an applicant must describe in detail:

1. The interest of the requester in the proceeding;

2. How that interest may be affected by the results of the proceeding, including the reasons why the requester should be permitted a hearing, with particular reference to the factors set out in § 2.1205(h);

3. The requester's areas of concern about the licensing activity that is the subject matter of the proceeding; and

4. The circumstances establishing that the request for a hearing is timely in accordance with § 2.1205(d).

IV. Public Meeting

There are no public meetings scheduled for this proceeding.

V. Further Information

The application for the license amendment and supporting documentation are available for inspection at NRC's Public Electronic Reading Room at http://www.nrc.gov/reading-rm/adams.html. The ADAMS accession numbers for the original DP submittal are ML023190414, ML023190459, ML023190490, ML023220319, ML023190486, ML023220321, ML023220067, and ML023190561. The accession numbers for the supplemental information are ML031550560, ML031550604, ML031550624, and ML031550645. The accession number for the DP review acceptance letter is ML031621024. Any questions with respect to this action should be referred to D. Blair Spitzberg, Ph.D., Chief, Fuel Cycle and Decommissioning Branch, Division of Nuclear Materials Safety, Region IV, U.S. Nuclear Regulatory Commission, 611 Ryan Plaza Drive, Suite 400, Arlington, Texas 76011-4005. Telephone: (817) 860-8191, fax (817) 860-8188.

Dated in Arlington, Texas, this 16th day of June 2003.
For the Nuclear Regulatory Commission.
D. Blair Spitzberg,
Chief, Fuel Cycle Decommissioning Branch, Division of Nuclear Materials Safety, Region IV.

[FR Doc. 03-15859 Filed 6-23-03; 8:45 am]

BILLING CODE 7590-01-P